NUCLEAR REGULATORY COMMISSION

[Docket No. 50-271]

Vermont Yankee Nuclear Power Corporation; Vermont Yankee Nuclear Power Station Environmental Assessment and Finding of No Significant Impact

The U.S. Nuclear Regulatory Commission (NRC) is considering amending, pursuant to 10 CFR 20.2002, the previously granted approvals to dispose of slightly contaminated septic waste and cooling tower silt on-site by expanding the allowable waste stream to include slightly contaminated soil generated as a residual by-product of on-site construction activities as requested by Vermont Yankee Nuclear Power Corporation (the licensee), for operation of the Vermont Yankee Nuclear Power Station (Vermont Yankee), located in Windham County, Vermont.

Environmental Assessment

Identification of the Proposed Action

The proposed action would amend the previously granted approvals to dispose of slightly contaminated septic waste and cooling tower silt on-site by expanding the allowable waste stream to include low-levels of radioactively contaminated soil generated as a residual by-product of on-site construction and other activities.

The proposed action is in accordance with the licensee's request dated June 23, 1999, as supplemented on January 4, 2000.

The Need for the Proposed Action

The proposed action is needed to dispose of slightly contaminated soil on-site. The licensee identified 25.5 cubic meters of soil to be disposed of on-site immediately, and approximately 28.3 cubic meters of soil/sand material on an annual basis until the expiration of the plant's operating license in 2013. The 25.5 cubic meters of contaminated soil was generated as a result of on-site construction activities. The anticipated 28.3 cubic meters of soil/sand material will be generated from the annual winter spreading of sand on roads and walkways at the plant site.

Environmental Impacts of the Proposed Action

The NRC has completed its evaluation of the proposed action and concludes that the proposed action will be bound by the conditions for the on-site disposals previously reviewed and approved by the NRC. The licensee will continue to use the designated and approved areas of their property (approximately 1.9 acres in size) that currently receives the septic waste and cooling tower silts. Determination of the radiological dose impact of the new material has been made based on the same dose assessment models and pathway assumptions used in the previously approved submittals. The licensee's proposal was evaluated against the NRC staff's guidelines for on-site disposal and found to be acceptable. The potential exposure to members of the general public from the radionuclides in material was determined to be less than 1 mrem/year, and meets the NRC staff's guidelines. Accordingly, the potential exposures are acceptable.

The proposed action will not significantly increase the probability or consequences of accidents, no changes are being made in the types of any effluents that may be released offsite, and there is no significant increase in occupational or public radiation exposure. Therefore, there are no significant radiological environmental impacts associated with the proposed action.

With regard to potential nonradiological impacts, the proposed action does not involve any historic sites. It does not affect nonradiological plant effluents and has no other environmental impact. Therefore, there are no significant nonradiological environmental impacts associated with the proposed action.

Accordingly, the NRC concludes that there are no significant environmental impacts associated with the proposed action.

Alternatives to the Proposed Action

As an alternative to the proposed action, the staff considered denial of the proposed action. Denial of the application would result in no change in current environmental impacts. As an additional alternative, the material could be shipped to an off-site low-level radioactive waste disposal facility. The costs associated with off-site disposal greatly exceeds the cost of on-site disposal without a compensating improvement in the environmental impacts. The environmental impacts of the proposed action and the alternative actions are similar.

Alternative Use of Resources

This action does not involve the use of any resources not previously considered in the Final Environmental Statement for Vermont Yankee Nuclear Power Station.

Agencies and Persons Consulted

In accordance with its stated policy, on June 8, 2000, the staff consulted with the Vermont State Official, William Sherman, of the Department of Public Service, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated June 23, 1999, as supplemented on January 4, 2000, which are available for public inspection at the Commission's Public Document Room, The Gelman Building, 2120 L Street, NW., Washington DC. Publicly available records will be accessible electronically from the ADAMS Public Library component on this NRC Web site, ­ http://www.nrc.gov (the Electronic Reading Room).

Dated at Rockville, Maryland, this 8th day of June 2000.
For the Nuclear Regulatory Commission.
Richard P. Croteau,
Project Manager, Section 2, Project Directorate I, Division of Licensing Project Management, Office of Nuclear Reactor Regulation.

[FR Doc. 00-15192 Filed 6-14-00; 8:45 am]

BILLING CODE 7590-01-P